DEPARTMENT OF JUSTICE

Bureau of Alcohol, Tobacco, Firearms and Explosives

[ATF Notice No. 3; Docket No. ATF2003R-28T]

The Gang Resistance Education and Training Program: Availability of Financial Assistance, Criteria and Application Procedures

AGENCY: Bureau of Alcohol, Tobacco, Firearms and Explosives (ATF), Department of Justice.

ACTION: Notice of availability of funds for the Gang Resistance Education and Training Program.

SUMMARY: Subject to the availability of appropriations, the Bureau of Alcohol, Tobacco, Firearms and Explosives (ATF) intends to enter into cooperative agreements with State and local law enforcement agencies to assist them in providing the Gang Resistance Education and Training (G.R.E.A.T.) Program to school students. This notice also sets forth the intended funding priorities and criteria, as well as the application procedures that ATF will use to select, and award Federal funds to, State and local law enforcement agencies to deliver the G.R.E.A.T. Program.

DATES: Applications must be received on or before November 30, 2003.

ADDRESSES: Send applications to the G.R.E.A.T. Branch; Bureau of Alcohol, Tobacco, Firearms and Explosives; Cooperative Agreement Section; 800 K Street, NW., Suite 735; Washington, DC 20001; ATTN: ATF Notice No. 3.

FOR FURTHER INFORMATION CONTACT: Charlene Lane, G.R.E.A.T. Branch; Bureau of Alcohol, Tobacco, Firearms and Explosives; 800 K Street, NW., Suite 735; Washington, DC 20001; telephone toll-free 1-800-726-7070, extension 7-3140. Or, send electronic mail (e-mail) to: GREAT@atf.gov, or visit the G.R.E.A.T. Web site at http://www.atf.gov/great/index.htm.

SUPPLEMENTARY INFORMATION:

Background

G.R.E.A.T. is a life-skills competency program designed to provide students with the skills they need to avoid gang pressure and youth violence. G.R.E.A.T.'s violence prevention curriculum helps students develop values and practice behaviors that will help them avoid destructive activities. G.R.E.A.T. functions as a cooperative program utilizing the skills of ATF, Federal, State, and local law enforcement personnel, as well as individuals from community and civic groups.

The G.R.E.A.T. Program trains law enforcement officers in a school-based curriculum in which the officers provide instruction to school-aged children in life skill competencies, gang awareness, and anti-violence techniques. Training will be provided to any State or local law enforcement agency to the extent allocated funds allow. G.R.E.A.T. consists of three major phases:

• Phase I—School-Based Education,

• Phase II—After School/Summer Education/Booster Classes, and

• Phase III—Family Component.

Other Pertinent Information

All funded agencies shall be subject to an audit of program expenditures and curriculum adherence. ATF will use the audit findings to alter funding levels if deemed necessary by ATF.

Applicants who receive over $100,000, and have been teaching the G.R.E.A.T. Program for over a year, will be required to develop programs tailored to their respective communities for phases II and III. Failure to develop and provide phases II and III by July 1st of the award year will result in a reduction in funding of up to 25% for the remainder of the year. In mid-year, funded agencies will be reviewed to ensure that funding requirements are being met. Agencies not meeting their funding obligations will have their monies reduced.

Agencies awarded $50,000 or more will be required to provide an officer (or officers) on a part-time basis to assist the G.R.E.A.T. Program as a National Training Team (NTT) member. NTT members serve as instructors for G.R.E.A.T. officer training sessions during the award period at the rate of two weeks per $50,000 of the award amount. Agencies in their first year of Federal funding are exempt from this requirement. However, the funded agency will be required to designate an officer to complete the NTT G.R.E.A.T. Management Training course.

Application Procedures

Application for financial assistance must be made on ATF Form 6410.1 (Gang Resistance Education And Training Funding Application). Application forms may be obtained by contacting the Cooperative Agreement Section, G.R.E.A.T. Branch; Bureau of Alcohol, Tobacco, Firearms and Explosives; 800 K Street, NW., Suite 735; Washington, DC 20001; telephone toll-free1-800-726-7070. Or visit the G.R.E.A.T. Web site at http://www.atf.gov/great/index.htm.

If your agency was funded during the last award period (1/16/2003 to 1/15/2004), you can have application forms sent or questions answered by your current G.R.E.A.T. Program Branch cooperative agreement point of contact.

Funding Categories and Funding Distributions

In order to provide funding to a range of community sizes and locations, applicants will be divided into five categories based on population. The population categories are: (a) 1,000,000 and over; (b) 999,999-500,000; (c) 499,999-100,000; (d) 99,999-25,000; and (e) 24,999 or less. Each applicant is required to report its population figures using the Bureau of Census 2000 Population Report for its entire service area. Population figures may be obtained from the Bureau's Web site at: http://www.census.gov/population/www/estimates, or by contacting the Census Bureau at 301-457-4608.

Criteria and Points

Each application will be evaluated and scored on the basis of the following criteria:

(1) Juvenile crime statistics (25%);

(2) Percentage of eligible 6th, 7th, and 8th grade students the applicant proposes to teach, and the percentage of eligible students previously taught the G.R.E.A.T. core curriculum (35%);

(3) Presence of curriculum reinforcement programs (25%) (such as Elementary, After School/Summer Education/Booster Classes, and Family Component/Parent Involvement programs); and

(4) Support of National G.R.E.A.T. Program Training (15%).

Criterion 1. This criterion measures the magnitude of an applicant's youth crime problem using the number of Part I and II offenses reported in the Uniform Crime Reports (UCR) published annually by the Federal Bureau of Investigation (FBI). Part I and II offenses are defined and listed in Appendix II of the UCR. Please note that the most current UCR is usually two years in arrears. ATF will obtain the required juvenile crime figures directly from the FBI. Applicants must indicate which service area (i.e., city, county, etc.) that ATF should use to obtain their most recent UCR juvenile crime figures.

In the event that an applicant does not provide annual data to the FBI for the UCR, the applicant should contact the G.R.E.A.T. Branch to determine how it can best submit information to measure its youth crime statistics.

Criterion 2. This criterion will measure middle school participation and consists of two sections:

• Section A. An applicant will receive points based on the percentage of middle school students proposed to be taught G.R.E.A.T. compared to the total population of middle school students in the jurisdiction.

• Section B. An applicant will receive points based on the percentage of middle school students who were taught G.R.E.A.T. during the last school year compared to last year's total population of eligible middle school students that could have been taught.

Criterion 3. This criterion is used to identify applicants who currently have life skills programs in place that reinforce the effectiveness of the G.R.E.A.T. middle school core curriculum. Life skill programs are those programs that instruct students in skills such as communication, active listening, empathy, avoiding peer pressure, conflict resolution, decision making, responsibility, citizenship, goal setting, cultural sensitivity, and behavior/anger management. Applicants will be asked to identify elementary, middle, and high school programs, as well as other summer, parent/family, and after school programs, in their service area.

Criterion 4. The G.R.E.A.T. Program depends on G.R.E.A.T. Officers to act as National Training Team (NTT) instructors at ATF's G.R.E.A.T. Officer Trainings sessions. Without this support, the program could not function. This criterion will recognize and reward applicants who provide NTT members for G.R.E.A.T. Officer training as delineated in the cooperative agreement.

Other Considerations

ATF will consider past year awardees previous spending of G.R.E.A.T. funds when determining their future funding levels. Unless sufficient documentation and support is supplied, applicants will not be funded at higher levels if past year spending indicates funds were underutilized. In order to assure that G.R.E.A.T. funds are spent in a fiscally responsible manner, ATF will also consider the cost per child for an applicant to conduct the program when awarding funds. ATF defines an agency's cost-per-child as the number of children to be taught divided by the eligible awarded funds.

Catalog of Federal Domestic Assistance (CFDA)

For the purpose of tracking Federal funds used in grants and cooperative agreements, the G.R.E.A.T. Program has been assigned CFDA number 21.053.

Paperwork Reduction Act

The collection of information contained in this notice has been approved by the Office of Management and Budget (OMB) in accordance with the Paperwork Reduction Act (44 U.S.C. 3507(d)) under control number 1140-0048. An agency may not conduct or sponsor, and a person is not required to respond to, a collection of information unless the collection of information displays a valid OMB control number.

Authority and Issuance

This notice is issued pursuant to Office of Management and Budget Circular No. A-102 (Grants and Cooperative Agreements with State and Local Governments).

Approved: October 15, 2003.
Bradley A. Buckles,
Director.

[FR Doc. 03-26774 Filed 10-22-03; 8:45 am]

BILLING CODE 4410-FY-P